DEPARTMENT OF TRANSPORTATION

Pipeline and Hazardous Materials Safety Administration

Office of Hazardous Materials Safety; Notice of Application for Exemptions

AGENCY: Pipeline and Hazardous Materials Safety Administration, DOT.

ACTION: List of applications for exemption

SUMMARY: In accordance with the procedures governing the application for, and the processing of, exemptions from the Department of Transportation's Hazardous Material Regulations (49 CFR part 107, subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before September 19, 2005.

Address Comments to: Record Center, Pipeline and Hazardous Materials Safety Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exemption is published in accordance with part 107 of the Federal hazardous materials transportation law (49 U.S.C. 5117(b); 49 CFR 1.53(b)).

Issued in Washington, DC, on August 12, 2005.
R. Ryan Posten,
Exemptions Program Officer, Office of Hazardous Materials Safety Exemptions & Approvals.

Application No. | Docket No. | Applicant | Regulation(s) affected | Nature of exemption thereof
NEW EXEMPTION
14227-N | PHMSA-2005-2206 | Aluminum Tank Industries, Inc., Winter Haven, FL | 49 CFR 177.834(h), 178.799 | To authorize the manufacture, mark, sale, and use of 50 gallon to 105 gallon refueling tanks containing certain Class 3 liquids which will be discharged without removal from the motor vehicle. (mode 1)
14428-N | PHMSA-2005-2206 | Goodrich Corporation, Colorado Springs, CO | 49 CFR 173.301(f). | To authorize the transportation in commerce of certain DOT Specification 3A and 3AA cylinders containing compressed oxygen without a pressure relief device. (modes 1, 4, 5)
14229-N | PHMSA-2005-2206 | Senex Explosives, Inc., Cuddy, PA | 49 CFR 17.835, 177.823, and 177.848 | To authorize the transportation in commerce of certain 1.4 and 1.5 explosives with Class 3 and Division 5.1 materials without meeting certain segregation requirements.
14230-N | PHMSA-2005-2211 | Epichem, Inc., Haverhill, MA | 49 CFR 173.302a | To authorize the one-time transportation in commerce of non-DOT specification cylinders containing Dichlorosilane to an ocean shipment consolidation facility and/or port. (modes 1, 3)

[FR Doc. 05-16407 Filed 8-17-05; 8:45 am]

BILLING CODE 4909-60-M